DEPARTMENT OF COMMERCE

National Oceanic and Atmospheric Administration

50 CFR Part 679

[I.D. 050500A]

RIN 0648-AK74

Fisheries of the Exclusive Economic Zone Off Alaska; Prohibition of Groundfish Fishing and Anchoring in the Sitka Pinnacles Marine Reserve

AGENCY: National Marine Fisheries Service (NMFS), National Oceanic and Atmospheric Administration (NOAA), Commerce.

ACTION: Notice of availability; request for comments.

SUMMARY: The North Pacific Fishery Management Council (Council) has submitted Amendment 59 to the Fishery Management Plan for Groundfish of the Gulf of Alaska (FMP). This amendment would prohibit vessels holding a Federal fisheries permit from fishing for groundfish or anchoring in the proposed Sitka Pinnacles Marine Reserve, a 2.5-square nautical mile (nm) area near Cape Edgecumbe. Amendment 59 is necessary to allow this area to function more fully as a marine refuge and would complement State regulations. The prohibition of boat anchoring by vessels under Federal jurisdiction would help prevent degradation of this fragile habitat.

DATES: Comments on Amendment 59 must be submitted by July 11, 2000.

ADDRESSES: Comments should be submitted to Sue Salveson, Assistant Regional Administrator, Sustainable Fisheries Division, Alaska Region, NMFS, P.O. Box 21668, Juneau, AK 99802, Attn: Lori Gravel. Comments may also be sent via facsimile (fax) to 907-586-7465, or hand delivered or sent by courier to the Federal Building, Room 453, Juneau, AK. Comments will not be accepted if submitted via e-mail or the Internet.

Copies of Amendment 59 to the FMP and the Environmental Assessment/Regulatory Impact Review/Initial Flexibility Analysis prepared for the amendment are available from the North Pacific Fishery Management Council, 605 West 4th Avenue, Suite 306, Anchorage, AK 99501-2252; telephone 907-271-2809.

FOR FURTHER INFORMATION CONTACT: Nina Mollett, 907-586-7462, nina.mollett@noaa.gov.

SUPPLEMENTARY INFORMATION: The Council adopted Amendment 59 to the FMP at its June 1998 meeting pursuant to the Magnuson-Stevens Fishery Conservation and Management Act (Magnuson-Stevens Act). If approved by NMFS, this amendment would prohibit vessels holding a Federal fisheries permit from fishing for groundfish or anchoring in the Sitka Pinnacles Marine Reserve, a 2.5-square nm area of unusually productive and fragile habitat near Cape Edgecumbe. In addition, the amendment would prohibit fishing for halibut or anchoring in the area by vessels required to have on board an individual fishing quota (IFQ) halibut permit under § 679.4(b). In addition, the area would be closed to sport fishing for halibut as defined at § 300.61, or anchoring by vessels having halibut on board. The International Pacific Halibut Commission manages Pacific halibut pursuant to the Northern Pacific Halibut Act.

The proposed Sitka Pinnacles Marine Reserve provides habitat for a variety of species at different life stages. Large numbers of juvenile and adult rockfish find shelter and protection among the sea plants and invertebrates growing on the rock walls. Closure of this area would protect the fragile ecosystem in the pinnacles. It would prevent the harvest or bycatch of species using the pinnacles during critical portions of their life histories, and would allow a vital ecosystem to maintain natural population levels in an area surrounded by heavy fishing pressure.

The Magnuson-Stevens Act requires that each Regional Fishery Management Council submit any fishery management plan or fishery management plan amendment it prepares to NMFS for review and approval, disapproval, or partial approval. The Magnuson-Stevens Act also requires that NMFS, upon receiving a fishery management plan or amendment, immediately publish a notification in the Federal Register that the amendment is available for public review and comment. This action constitutes such notice for FMP Amendment 59. NMFS will consider the public comments received during the comment period in determining whether to approve Amendment 59. To be considered, a comment must be received by close of business on the last day of the comment period (see DATES), regardless of the comment's postmark or transmission date. A proposed rule that would implement the amendment may be published in the Federal Register for public comment following NMFS' evaluation under the Magnuson-Stevens Act procedures. Public comments on the proposed rule must be received by the end of the comment period on the amendment in order to be considered in the approval/disapproval decision on the amendment. All comments received by the end of the comment period on the amendment, whether specifically directed to the amendment or to the proposed rule, will be considered in the approval/disapproval decision; comments received after that date will not be considered in the approval/disapproval decision on the amendment.

Dated: May 8, 2000.
Bruce C. Morehead,
Acting Director, Office of Sustainable Fisheries, National Marine Fisheries Service.

[FR Doc. 00-12027 Filed 5-11-00; 8:45 am]

BILLING CODE 3510-22-F